ENVIRONMENTAL PROTECTION AGENCY

[FRL-8697-7]

Chino Airport Radium Dials Site; Notice of Proposed CERCLA Settlement Agreement for Recovery of Past Response Costs

AGENCY: Environmental Protection Agency (EPA).

ACTION: Notice; request for public comment.

SUMMARY: In accordance with section 122(i) of the Comprehensive Environmental Response, Compensation, and Liability Act, as amended (“CERCLA”), 42 U.S.C. 9622(i), the EPA is hereby providing notice of a proposed settlement agreement (“Agreement”) concerning the Chino Airport Radium Dials Site in San Bernardino County, California (“the Chino Airport Site”). Section 122(h) of CERCLA, 42 U.S.C 9622(h), provides EPA with the authority to enter into administrative settlements. Pursuant to this Agreement, San Bernardino County will reimburse the EPA for $481,677.18 in costs that the EPA incurred while overseeing the removal of hazardous substances from the Chino Airport Site and completing that removal action.

DATES: EPA will receive written comments relating to the settlement for a period of 30 days from the date of publication of this notice. EPA will consider all comments it receives during this period, and may modify or withdraw its consent to the Agreement if any comments disclose facts or considerations indicating that the Agreement is inappropriate, improper, or inadequate. The deadline for requesting a public meeting is two weeks from the date of publication of this Notice. Requests for a public meeting may be made by calling Taly Jolish, Esq. at (415) 972-3925, or e-mailing her at Jolish.Taly@epa.gov, or by facsimile at (415) 947-3570.

ADDRESSES: Written comments should be addressed to John Jaros, U.S. Environmental Protection Agency Region IX, 75 Hawthorne Street (mail code SFD-9-4), San Francisco, California 94105-3901.

FOR FURTHER INFORMATION CONTACT: Additional information about the Chino Airport Site and about the proposed settlement may be obtained by calling Taly Jolish, Esq. at (415) 972-3925.

Dated: July 16, 2008.
Dan Meer,
Acting Director, Superfund Division, U.S. EPA, Region IX.

[FR Doc. E8-17235 Filed 7-25-08; 8:45 am]

BILLING CODE 6560-50-P